NUCLEAR REGULATORY COMMISSION

[NUREG-1600]

Revision of the NRC Enforcement Policy

Correction

In notice document 04-23900 beginning on page 62485 in the issue of Tuesday, October 26, 2004, make the following correction:

On page 62486, in the table, in the first column, in the ninth line, “3.7 x 104” should read “3.7 x 10⁴.”

[FR Doc. C4-23900 Filed 11-19-04; 8:45 am]

BILLING CODE 1505-01-D